NATIONAL AERONAUTICS AND SPACE ADMINISTRATION

[Notice (10-041)]

NASA Advisory Council; Education and Public Outreach Committee; Meeting

AGENCY: National Aeronautics and Space Administration.

ACTION: Notice of meeting.

SUMMARY: In accordance with the Federal Advisory Committee Act, Public Law 92-463, as amended, the National Aeronautics and Space Administration announces a meeting of the Education and Public Outreach Committee of the NASA Advisory Council.

DATES: April 26, 2010, 10 a.m.-4 p.m. CDT.

ADDRESSES: This meeting will take place telephonically and via WebEx. Any interested person may contact Ms. Erika G. Vick at (202) 358-2209, to get further information about participating via teleconference and/or WebEx.

FOR FURTHER INFORMATION CONTACT: Ms. Erika G. Vick, Office of Communications, National Aeronautics and Space Administration Headquarters, Washington, DC 20546, (202) 358-2209.

SUPPLEMENTARY INFORMATION: The agenda for the meeting includes the following topics:

• Issues for NASA Communications

• NASA's 2010 Pilot Activities for Middle and High Schools

• Participatory Exploration

It is imperative that these meetings be held on this date to accommodate the scheduling priorities of the key participants.

Dated: April 1, 2010.
P. Diane Rausch,
Advisory Committee Management Officer, National Aeronautics and Space Administration.

[FR Doc. 2010-7772 Filed 4-5-10; 8:45 am]

BILLING CODE 7510-13-P